DEPARTMENT OF HOMELAND SECURITY

U.S. Citizenship and Immigration Services

[CIS No. 2761-23; DHS Docket No. USCIS-2021-0003]

RIN 1615-ZB86

Extension and Redesignation of Venezuela for Temporary Protected Status—Correction

AGENCY: U.S. Citizenship and Immigration Services (USCIS), Department of Homeland Security (DHS).

ACTION: Notice; correction.

SUMMARY: This document corrects a technical error that appears in the USCIS notice titled “Extension and Redesignation of Venezuela for Temporary Protected Status” that published in the Federal Register on October 3, 2023. This document aligns and makes consistent the date through which Temporary Protected Status (TPS) will be granted to certain beneficiaries and the validity period of their related employment authorization document (EAD). This correction only affects individuals with an initial Venezuela TPS application (Form I-821) or initial Venezuela TPS-related EAD application (Form I-765) that was pending as of October 3, 2023.

FOR FURTHER INFORMATION CONTACT:

• You may contact Rená Cutlip-Mason, Chief, Humanitarian Affairs Division, Office of Policy and Strategy, U.S. Citizenship and Immigration Services, Department of Homeland Security, by mail at 5900 Capital Gateway Drive, Camp Springs, MD 20746, or by phone at 800-375-5283.

• For more information on TPS, including guidance on the registration process and additional information on eligibility, please visit the USCIS TPS web page at https://www.uscis.gov/tps. You can find specific information about Venezuela's TPS designation by selecting “Venezuela” from the menu on the left side of the TPS web page.

• If you have additional questions about TPS, please visit uscis.gov/tools. Our online virtual assistant, Emma, can answer many of your questions and point you to additional information on our website. If you cannot find your answers there, you may also call our USCIS Contact Center at 800-375-5283 (TTY 800-767-1833).

• Applicants seeking information about the status of their individual cases may check Case Status Online, available on the USCIS website at uscis.gov, or visit the USCIS Contact Center at https://www.uscis.gov/contactcenter.

• You also can find more information at local USCIS offices after this notice is published.

SUPPLEMENTARY INFORMATION: On October 3, 2023, DHS published a notice in the Federal Register at 88 FR 68130 titled “Extension and Redesignation of Venezuela for Temporary Protected Status.” This document makes a technical correction to that notice (FR Doc. 2023-21865), correcting two incorrect references in the SUPPLEMENTARY INFORMATION section of the notice. This document aligns the dates that appear in the SUPPLEMENTARY INFORMATION section with the dates that appears in the DATES section.

The corrections are as follows:

(1) On page 68134, under the section “Required Application Forms and Application Fees To Register or Re-Register for TPS,” USCIS is correcting the date in the third paragraph, second sentence; and

(2) On page 68135, under the section “How can TPS beneficiaries obtain an Employment Authorization Document (EAD)?” USCIS is correcting the date in the first paragraph, sixth sentence regarding the date through which the EAD will be valid if the Form I-765 is approved.

In both instances, the dates should be September 10, 2025, not April 2, 2025. The “continuous residence” date for applicants for TPS under the redesignation of Venezuela remains as July 31, 2023, and is not affected by this document.

Correction

In FR 2023-21865, Federal Register of October 3, 2023, USCIS is correcting the following:

1. On page 68134, third column, third paragraph, second sentence under the section “Required Application Forms and Application Fees To Register or Re-Register for TPS,” is corrected to read as follows:

If USCIS approves an individual's Form I-821, USCIS will grant the individual TPS through September 10, 2025.

2. On page 68135, second column, fourth sentence, is corrected to read as follows:

If USCIS approves a pending TPS-related Form I-765, USCIS will issue the individual a new EAD that will be valid through September 10, 2025.

Christina E. McDonald,
Federal Register Liaison, U.S. Department of Homeland Security.

[FR Doc. 2023-25507 Filed 11-16-23; 8:45 am]

BILLING CODE 9111-97-P